DEPARTMENT OF TRANSPORTATION

Federal Aviation Administration

14 CFR Part 39

[Docket No. FAA-2020-0094; Product Identifier 2019-NM-188-AD; Amendment 39-21266; AD 2020-20-10]

RIN 2120-AA64

Airworthiness Directives; The Boeing Company Airplanes

AGENCY: Federal Aviation Administration (FAA), DOT.

ACTION: Final rule.

SUMMARY: The FAA is superseding Airworthiness Directive (AD) 2018-06-07, which applied to certain The Boeing Company Model 757-200, -200CB, and -300 series airplanes. AD 2018-06-07 required inspecting the fuselage frame at a certain station for existing repairs, repetitive inspections, and applicable repairs. This AD requires the actions in AD 2018-06-07, with an expanded inspection area, additional inspections, a modified inspection type, and applicable repairs. This AD was prompted by a report of fatigue cracking found in the fuselage frame at a certain station, which severed the inner chord and web. The FAA is issuing this AD to address the unsafe condition on these products.

DATES: This AD is effective November 10, 2020.

The Director of the Federal Register approved the incorporation by reference of certain publications listed in this AD as of November 10, 2020.

ADDRESSES: For Boeing service information identified in this final rule, contact Boeing Commercial Airplanes, Attention: Contractual & Data Services (C&DS), 2600 Westminster Blvd., MC 110 SK57, Seal Beach, CA 90740-5600; phone: 562-797-1717; internet: https://www.myboeingfleet.com. For Aviation Partners Boeing service information identified in this final rule, contact Aviation Partners Boeing, 2811 S. 102nd Street, Suite 200, Seattle, WA 98168; phone: 206-830-7699; internet: https://www.aviationpartnersboeing.com. You may view this service information at the FAA, Airworthiness Products Section, Operational Safety Branch, 2200 South 216th St., Des Moines, WA. For information on the availability of this material at the FAA, call 206-231-3195. It is also available on the internet at https://www.regulations.gov by searching for and locating Docket No. FAA-2020-0094.

Examining the AD Docket

You may examine the AD docket on the internet at https://www.regulations.gov by searching for and locating Docket No. FAA-2020-0094; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Peter Jarzomb, Aerospace Engineer, Airframe Section, FAA, Los Angeles ACO Branch, 3960 Paramount Boulevard, Lakewood, CA 90712-4137; phone: 562-627-5234; fax: 562-627-5210; email: peter.jarzomb@faa.gov.

SUPPLEMENTARY INFORMATION:

Discussion

The FAA issued a notice of proposed rulemaking (NPRM) to amend 14 CFR part 39 to supersede AD 2018-06-07, Amendment 39-19227 (83 FR 13398, March 29, 2018) (“AD 2018-06-07”). AD 2018-06-07 applied to all The Boeing Company Model 757-200, -200CB, and -300 series airplanes. The NPRM published in the Federal Register on February 18, 2020 (85 FR 8773). The NPRM was prompted by a report of fatigue cracking found in the fuselage frame at station (STA) 1640, which severed the inner chord and web. The NPRM proposed to continue to require the actions in AD 2018-06-07. The NPRM also proposed to require an expanded inspection area, additional inspections, a modified inspection type, and applicable repairs. The FAA is issuing this AD to address cracking of the fuselage frame at STA 1640, which could result in reduced structural integrity of the airplane.

Comments

The FAA gave the public the opportunity to participate in developing this AD. The following presents the comments received on the NPRM and the FAA's response to each comment.

Support for the NPRM

United Airlines stated concurrence with the proposed actions in the NPRM. FedEx Express expressed support for the NPRM.

Request To Clarify Repetitive Intervals as a Function of Configuration and Most Recent Inspections Accomplished

Boeing requested that the “Proposed AD Requirements” paragraph of the NPRM be revised to specify that the repetitive intervals are a function of both the configuration and the most recent inspection option accomplished. Boeing pointed out that the repeat intervals in tables 2 through 11 of Boeing Alert Service Bulletin 757-53A0108, Revision 1, dated July 17, 2019, each provide two options for repeat inspections, depending on whether certain other inspections were last accomplished. Boeing requested that the following wording be used: “. . . depending on the configuration, and the most recent inspection option accomplished.”

The FAA agrees that the requested change would be an accurate clarification. However, the “Proposed AD Requirements” section is included in an NPRM as background information on the proposed requirements to provide adequate information for the public on which to comment. The “Proposed AD Requirements” section is not included in the final rule. The FAA has not changed this AD in this regard.

Request To Clarify Estimated Costs for Required Actions

Boeing requested that the FAA clarify the estimated costs for the required actions specified in the NPRM. Boeing pointed out that the most significant amount of time for the inspections is open and close access, which would be required for each inspection, unless the inspections are combined. Boeing mentioned that the estimated costs in the NPRM only include these hours for the repetitive high frequency eddy current (HFEC) and low frequency eddy current (LFEC) inspections, and suggested separating the costs for open and close access from the inspections. Boeing also mentioned that the detailed inspection is listed as taking 1 work-hour, whereas the service information specifies 0.20 hours per side of each airplane. Boeing went on to point out that the costs for the repetitive HFEC and LFEC inspections in the NPRM appear to include possible combinations of inspections, and to include inspections that are not repetitive. Additionally, Boeing specified that the service information contained some mathematical errors in the manpower estimates.

The FAA agrees to clarify the estimated costs. The work hours required for open and close access are provided under the line item costs for the repetitive HFEC and LFEC inspections, as these are on-going inspections required by this AD. The work-hour estimates in this AD are based on the service information provided to the FAA by the manufacturer; however, it is FAA policy in ADs to round work-hour estimates up to the next full hour. The FAA is unable to predict whether operators will choose to do Option 1 or Option 2 inspections, thus the FAA estimates the highest costs to do the required actions using the best industry data available at the time of publication. The cost estimates in this final rule have been revised to indicate that the costs could be “up to” the highest number of work hours needed for the specified actions.

Request for Matching Compliance Times

American Airlines (AAL) requested that the FAA revise the proposed compliance times for the general visual inspection and the detailed visual inspection to match. AAL stated that the compliance times for the two separate actions should be the same to align with CONDITION 2, specified in Aviation Partners Boeing Service Bulletin AP757-53-001, Revision 2, dated October 22, 2019. AAL did not provide further reasoning.

The FAA disagrees with the request for matching compliance times. The compliance times do not need to match to align with CONDITION 2, specified in Aviation Partners Boeing Service Bulletin AP757-53-001, Revision 2, dated October 22, 2019. The general visual inspection for repairs was included in Aviation Partners Boeing Alert Service Bulletin AP757-53-001, Revision 1, dated June 21, 2017, and mandated by AD 2018-06-07, and is carried over from the requirements of AD 2018-06-07. Aviation Partners Boeing Service Bulletin AP757-53-001, Revision 2, dated October 22, 2019, introduced a new detailed visual inspection for any crack, nick, or gouge, which specifies a new grace period. Both the general visual and detailed visual inspections must be performed. The FAA expects that most operators will choose to do both the general visual and detailed visual inspections at the earlier compliance time, because the inspections are in the same area and the access requirements are the same; however, from a safety perspective, the inspections do not need to be performed at the same time, and can be performed at their respective compliance times. This AD has not been changed in this regard.

Request To Use Alternative Service Information for Certain Modified Airplanes

VT Mobile Aerospace Engineering Inc. (VT MAE) requested that the FAA allow inspection of certain passenger airplanes converted to a specific freighter configuration (VT MAE Supplemental Type Certificate (STC) ST04242AT, Passenger to 15-Pallet Configuration) using VT MAE 15-Pallet Maintenance Planning Data (MPD) Supplement 757SF-MPD-01. VT MAE pointed out that the STA 1640 frame is completely modified (the existing passenger frame is removed and new frame section is installed). VT MAE also pointed out that the 11866470 FRAME INSTL-STA 1640 drawing is used for the analysis, and that Boeing has performed analysis of the modified airplane, which also includes the Fatigue and Damage Tolerance Analysis of modified aft fuselage structures from STA 1640 to STA 1720 to accommodate 15 full-size pallets. VT MAE then specified that the new STA 1640 frame is inspected as part of the VT MAE MPD Supplement 757SF-MPD-01, which specifies inspections for all of the affected frames and also requires inspection of this new STA 1640 frame (left-hand and right-hand) at the frame inner chord and the frame web between stringer (S) 16 and S-17. VT MAE also mentioned its plan to submit a request for approval of an alternative method of compliance (AMOC) for airplanes modified using VT MAE STC ST04242AT.

The FAA acknowledges that airplanes modified using VT MAE STC ST04242AT are no longer configured as passenger airplanes. However, the FAA disagrees with the request to include inspections using VT MAE MPD Supplement 757SF-MPD-01 as an appropriate source of service information because sufficient data was not submitted to substantiate that the inspections specified in VT MAE MPD Supplement 757SF-MPD-01 would provide an acceptable level of safety. Under the provisions of paragraph (i) of this AD, the FAA will consider requests for approval of alternative actions and compliance times if sufficient data are submitted to substantiate that the change would provide an acceptable level of safety. The FAA has not changed this AD in this regard.

Request To Refer to Airplanes Modified Using Different STCs

VT MAE requested that the FAA revise paragraphs (g)(3) and (4) of the proposed AD to include reference to airplanes modified using VT MAE STC ST03952AT (Combi to 14-Pallet Configuration). VT MAE explained that the modification to the STA 1640 frame is identical to that of Boeing Model 757-200 special freighter airplanes identified as Group 2 and Group 5 in Boeing Alert Service Bulletin 757-53A0108, Revision 1, dated July 17, 2019. VT MAE pointed out that the modification instructions for the STA 1640 frame is contained in Drawing 657N3160—Frame Instl—Modified, Aft Pallet Mod. VT MAE also proposed utilizing all of the inspections, methods, and compliance times specified in Boeing Alert Service Bulletin 757-53A0108, Revision 1, dated July 17, 2019, for those airplanes.

The FAA agrees for the reasons provided and has revised paragraphs (g)(3) and (4) of this AD to include reference to airplanes modified using VT MAE STC ST03952AT.

Request for Clarification of Interaction of Certain Airplane Configurations

Aviation Partners Boeing (APB) requested that the FAA clarify the interaction of the configurations specified in paragraphs (g)(2) and (3) of the proposed AD (airplanes that have been converted from passenger to freighter configuration using VT MAE STC ST03562AT, and on which APB blended or scimitar blended winglets are installed using STC ST01518SE). APB stated that it is not clear whether the freighter configuration compliance times or the winglet configuration compliance times take precedence. APB pointed out that STC ST01518SE was not certified for a freighter configuration (factory or STC). APB noted that other STC holders have obtained FAA approval for freighter conversion STCs that include a statement of compatibility with STC ST01518SE (e.g., ST03562AT, ST04242AT, and ST01529SE). APB also mentioned that Aviation Partners Boeing Alert Service Bulletin AP757-53-001, Revision 2, dated October 22, 2019, reduces the compliance times for airplanes identified as Group 1 or Group 3 in Boeing Alert Service Bulletin 757-53A0108, Revision 1, dated July 17, 2019. APB explained that the compliance time reduction is based solely on the interaction of STC ST01518SE with the Boeing type certificated configuration, and does not include effects from any other STCs. APB also stated that Group 4 airplanes are not eligible to install STC ST01518SE, and therefore, there is no conflict for Group 4 airplanes. APB requested that the FAA modify paragraph (g)(2) of the proposed AD to exclude airplanes identified in paragraph (g)(3) of the proposed AD.

The FAA agrees that it is possible for both STC ST03562AT and STC ST01518SE to be incorporated on the same airplane. However, the FAA does not agree that revising paragraph (g)(2) of this AD as requested by the commenter is appropriate. The FAA acknowledges that the compliance times for airplanes with APB winglets installed were developed based solely on the interaction of STC ST01518SE with the Boeing type certificated configuration. However, the FAA also acknowledges that the effects of installing APB winglets on Model 757-200 passenger airplanes converted to freighter configuration in accordance with VT MAE STC ST03562AT have not been evaluated, and that sufficient data was not submitted to substantiate any positive or negative effects on the unsafe condition. The FAA has therefore added paragraph (g)(5) to this AD to specifically address airplanes with both STCs installed.

Request To Allow Certain AMOCs

FedEx Express requested that the FAA allow certain AMOCs approved for AD 2018-06-07, including local frame replacements. FedEx Express stated that it defines a local frame replacement as a frame repair splice between stringers S-9 and S-20 along the STA 1640 fuselage frame, and explained that the local frame replacement replaces the entire inspection area and does not interfere with the inspections specified in the NPRM. FedEx Express pointed out that its fleet has several local frame replacements along the STA 1640 fuselage frame that have AMOC approval for AD 2018-06-07. FedEx Express also pointed out that it would be required to request new AMOCs for the existing repairs, possibly extending ground time for its fleet.

The FAA agrees for the reasons provided and has included paragraph (i)(5) of this AD to specifically allow AMOCs approved in FAA Letters 790-18-8737, 790-18-9637, 790-18-10097, 790-18-10177, and 790-20-10108, as AMOCs for certain actions required by this AD. The FAA has also included paragraph (g)(6) of this AD to provide inspection instructions for Group 1 airplanes that have been converted from passenger to freighter configuration using VT MAE STC ST03562AT or STC ST03952AT and that have local frame replacements that do not include a reinforcement repair or repair splice member between stringers S-11 and S-16 as specified in FAA AMOC approval Letters 790-18-8737, 790-18-9637, 790-18-10097, 790-18-10177, and 790-20-10108.

Conclusion

The FAA reviewed the relevant data, considered the comments received, and determined that air safety and the public interest require adopting this AD with the changes described previously, and minor editorial changes. The FAA has determined that these minor changes:

• Are consistent with the intent that was proposed in the NPRM for addressing the unsafe condition; and

• Do not add any additional burden upon the public than was already proposed in the NPRM.

The FAA also determined that these changes will not increase the economic burden on any operator or increase the scope of this AD.

Related Service Information Under 1 CFR Part 51

The FAA reviewed Boeing Alert Service Bulletin 757-53A0108, Revision 1, dated July 17, 2019. This service information describes procedures for an inspection of the STA 1640 fuselage frame between S-11 and S-16 for existing frame repairs or replacements, a detailed inspection for any crack, nick, or gouge, and repetitive HFEC and LFEC inspections for cracking and repair.

The FAA also reviewed Aviation Partners Boeing Alert Service Bulletin AP757-53-001, Revision 2, dated October 22, 2019. This service information provides compliance times for accomplishing the procedures identified in Boeing Alert Service Bulletin 757-53A0108, Revision 1, dated July 17, 2019, for airplanes on which APB blended or scimitar blended winglets are installed.

This service information is reasonably available because the interested parties have access to it through their normal course of business or by the means identified in the ADDRESSES section.

Costs of Compliance

The FAA estimates that this AD affects 606 airplanes of U.S. registry. The FAA estimates the following costs to comply with this AD:

Estimated Costs for Required Actions
Action | Labor cost | Parts cost | Cost per product | Cost on U.S. operators
Inspection for existing frame repairs or replacements | 1 work-hour × $85 per hour = $85 | $0 | $85 | $51,510.
Detailed inspection | 1 work-hour × $85 per hour | 0 | $85 | $51,510.
Repetitive high and low frequency inspections for Groups 1 through 3 airplanes (598 airplanes) | Up to 54 work-hours × $85 per hour = Up to $4,590 per inspection cycle | 0 | Up to $4,590 per inspection cycle | Up to $2,744,820 per inspection cycle.
Repetitive high and low frequency inspections for Groups 4 and 5 airplanes (8 airplanes) | Up to 48 work-hours × $85 per hour = Up to $4,080 per inspection cycle | 0 | Up to $4,080 per inspection cycle | Up to $32,640 per inspection cycle.

The FAA has received no definitive data that would enable the FAA to provide cost estimates for the on-condition repair specified in this AD.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-06-07, Amendment 39-19227 (83 FR 13398, March 29, 2018), and adding the following new AD:

2020-20-10 The Boeing Company: Amendment 39-21266; Docket No. FAA-2020-0094; Product Identifier 2019-NM-188-AD.

(a) Effective Date

This AD is effective November 10, 2020.

(b) Affected ADs

This AD replaces AD 2018-06-07, Amendment 39-19227 (83 FR 13398, March 29, 2018) (“AD 2018-06-07”).

(c) Applicability

This AD applies to all The Boeing Company Model 757-200, -200CB, and -300 series airplanes, certificated in any category.

(d) Subject

Air Transport Association (ATA) of America Code 53, Fuselage.

(e) Unsafe Condition

This AD was prompted by a report of fatigue cracking found in the fuselage frame at station (STA) 1640, which severed the inner chord and web. The FAA is issuing this AD to address cracking of the fuselage frame at STA 1640, which could result in reduced structural integrity of the airplane.

(f) Compliance

Comply with this AD within the compliance times specified, unless already done.

(g) Actions Required for Compliance

(1) For all airplanes except those identified in paragraphs (g)(2) through (6) of this AD: Except as specified by paragraph (h) of this AD, at the applicable times specified in paragraph 1.E., “Compliance,” of Boeing Alert Service Bulletin 757-53A0108, Revision 1, dated July 17, 2019, do all applicable actions identified as “RC” (required for compliance) in, and in accordance with, the Accomplishment Instructions of Boeing Alert Service Bulletin 757-53A0108, Revision 1, dated July 17, 2019.

(2) For airplanes on which Aviation Partners Boeing (APB) blended or scimitar blended winglets are installed using Supplemental Type Certificate (STC) ST01518SE: Except as specified by paragraph (h) of this AD, at the applicable times specified in paragraph 1.E., “Compliance,” of Aviation Partners Boeing Alert Service Bulletin AP757-53-001, Revision 2, dated October 22, 2019, do all applicable actions identified as “RC” in, and in accordance with, the Accomplishment Instructions of Aviation Partners Boeing Alert Service Bulletin AP757-53-001, Revision 2, dated October 22, 2019.

(3) For Group 1 airplanes that have been converted from passenger to freighter configuration using VT Mobile Aerospace Engineering Inc. (VT MAE) STC ST03562AT or STC ST03952AT: Except as specified by paragraph (h) of this AD, at the applicable times specified for Group 2 airplanes in the “Compliance” paragraph of Boeing Alert Service Bulletin 757-53A0108, Revision 1, dated July 17, 2019, do all applicable Group 2 actions, as identified in, and in accordance with, the Accomplishment Instructions of Boeing Alert Service Bulletin 757-53A0108, Revision 1, dated July 17, 2019.

(4) For Group 4 airplanes that have been converted from a passenger to freighter configuration using VT MAE STC ST03562AT or VT MAE STC ST03952AT: Except as specified by paragraph (h) of this AD, at the applicable times specified for Group 5 airplanes in the “Compliance” paragraph of Boeing Alert Service Bulletin 757-53A0108, Revision 1, dated July 17, 2019, do all applicable Group 5 actions as identified in, and in accordance with, the Accomplishment Instructions of Boeing Alert Service Bulletin 757-53A0108, Revision 1, dated July 17, 2019.

(5) For Group 1 airplanes that have been converted from passenger to freighter configuration using VT MAE STC ST03562AT, and on which APB blended or scimitar blended winglets were installed using STC ST01518SE: Except as specified by paragraph (h) of this AD, before further flight, do all applicable actions using a method approved in accordance with the procedures specified in paragraph (i) of this AD.

(6) For Group 1 airplanes that have been converted from passenger to freighter configuration using VT MAE STC ST03562AT and that have local frame replacements that do not include a reinforcement repair or repair splice member between stringers S-11 and S-16 as specified in FAA AMOC approval Letters 790-18-8737, 790-18-9637, 790-18-10097, 790-18-10177, and 790-20-10108: Do the actions required by paragraph (g)(3) of this AD; except where paragraph (g)(3) requires to do the applicable actions for Group 2, Configuration 2, CONDITION 3, specified in Boeing Alert Service Bulletin 757-53A0108, Revision 1, dated July 17, 2019, do the actions for Group 2, Configuration 2, CONDITION 4, and follow-on actions instead.

(h) Exceptions to Service Information Specifications

(1) Where Boeing Alert Service Bulletin 757-53A0108, Revision 1, dated July 17, 2019, specifies contacting Boeing for repair instructions or for alternative inspections: This AD requires doing the repair, or doing the alternative inspections and applicable on-condition actions using a method approved in accordance with the procedures specified in paragraph (i) of this AD.

(2) Where Boeing Alert Service Bulletin 757-53A0108, Revision 1, dated July 17, 2019, uses the phrase “the original issue date of this service bulletin,” this AD requires using “May 3, 2018 (the effective date of AD 2018-06-07),” except where Boeing Alert Service Bulletin 757-53A0108, Revision 1, dated July 17, 2019, uses the phrase “the original issue date of this service bulletin” in a note or flag note.

(3) Where Boeing Alert Service Bulletin 757-53A0108, Revision 1, dated July 17, 2019, uses the phrase “the revision 1 date of this service bulletin,” this AD requires using “the effective date of this AD.”

(4) Where Aviation Partners Boeing Alert Service Bulletin AP757-53-001, Revision 2, dated October 22, 2019, specifies contacting Boeing for repair instructions or for alternative inspections: This AD requires doing the repair, or doing the alternative inspections and applicable on-condition actions, using a method approved in accordance with the procedures specified in paragraph (i) of this AD.

(5) Where Aviation Partners Boeing Alert Service Bulletin AP757-53-001, Revision 2, dated October 22, 2019, uses the phrase “the revision 1 issue date of this service bulletin,” this AD requires using “May 3, 2018 (the effective date of AD 2018-06-07),” except where Aviation Partners Boeing Alert Service Bulletin AP757-53-001, Revision 2, dated October 22, 2019, uses the phrase “the revision 1 issue date of this service bulletin” in a note or flag note.

(6) Where Aviation Partners Boeing Alert Service Bulletin AP757-53-001, Revision 2, dated October 22, 2019, uses the phrase “the revision 2 issue date of this service bulletin,” this AD requires using “the effective date of this AD.”

(i) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Los Angeles ACO Branch, FAA, to make those findings. To be approved, the repair method, modification deviation, or alteration deviation must meet the certification basis of the airplane, and the approval must specifically refer to this AD.

(4) Except as specified in paragraph (i)(5) of this AD, AMOCs approved previously for AD 2018-06-07 are not approved as AMOCs for the corresponding provisions of this AD.

(5) AMOCs approved in FAA Letters 790-18-8737, 790-18-9637, 790-18-10097, 790-18-10177, and 790-20-10108, are approved as AMOCs for this AD.

(6) Except as specified by paragraph (h) of this AD: For service information that contains steps that are labeled as Required for Compliance (RC), the provisions of paragraphs (i)(6)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Peter Jarzomb, Aerospace Engineer, Airframe Section, FAA, Los Angeles ACO Branch, 3960 Paramount Boulevard, Lakewood, CA 90712-4137; phone: 562-627-5234; fax: 562-627-5210; email: peter.jarzomb@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Aviation Partners Boeing Alert Service Bulletin AP757-53-001, Revision 2, dated October 22, 2019.

(ii) Boeing Alert Service Bulletin 757-53A0108, Revision 1, dated July 17, 2019.

(3) For Aviation Partners Boeing service information identified in this AD, contact Aviation Partners Boeing, 2811 S 102nd Street, Suite 200, Seattle, WA 98168; phone: 206 830 7699; internet: https://www.aviationpartnersboeing.com.

(4) For Boeing service information identified in this AD, contact Boeing Commercial Airplanes, Attention: Contractual & Data Services (C&DS), 2600 Westminster Blvd., MC 110 SK57, Seal Beach, CA 90740-5600; phone: 562-797-1717; internet: https://www.myboeingfleet.com.

(5) You may view this service information at the FAA, Airworthiness Products Section, Operational Safety Branch, 2200 South 216th St., Des Moines, WA. For information on the availability of this material at the FAA, call 206-231-3195.

(6) You may view this service information that is incorporated by reference at the National Archives and Records Administration (NARA). For information on the availability of this material at NARA, email fedreg.legal@nara.gov, or go to: https://www.archives.gov/federal-register/cfr/ibr-locations.html.

Issued on September 23, 2020.
Lance T. Gant,
Director, Compliance & Airworthiness Division, Aircraft Certification Service.

[FR Doc. 2020-21994 Filed 10-5-20; 8:45 am]

BILLING CODE 4910-13-P